DEPARTMENT OF COMMERCE

Foreign-Trade Zones Board

[Order No. 1404]

Expansion of Foreign-Trade Zone 38 Spartanburg, SC, Area

Pursuant to its authority under the Foreign-Trade Zones Act of June 18, 1934, as amended (19 U.S.C. 81a-81u), the Foreign-Trade Zones Board (the Board) adopts the following Order:

Whereas, the South Carolina State Ports Authority, grantee of Foreign-Trade Zone 38, submitted an application to the Board for authority to expand FTZ 38 to include a site (20 acres) at the Lakeside Business Center (Site 6) in Greer; to restore zone status to 118 acres at the Gateway International Business Center (Site 2) in Greer; and, to request an extension of authority for the TNT Logistics facility (Site 5) in Laurens, South Carolina, within the Greenville/Spartanburg Customs port of entry (FTZ Docket 48-2004, filed 10/29/04);

Whereas, notice inviting public comment has been given in the Federal Register (69 FR 64715, 11/08/04) and the application has been processed pursuant to the FTZ Act and the Board's regulations; and,

Whereas, the Board adopts the findings and recommendations of the examiner's report, and finds that the requirements of the FTZ Act and the Board's regulations would be satisfied, and that approval of the application would be in the public interest;

Now, therefore, the Board hereby orders:

The application to expand FTZ 38 is approved, subject to the FTZ Act and the Board's regulations, including Section 400.28, and subject to the Board's standard 2,000-acre activation limit for the overall zone project, and further subject to a five-year time limit (to July 31, 2010) for Site 5 with extension available upon review.

Signed at Washington, DC, this 21st day of July 2005.
Joseph A. Spetrini,
Acting Assistant Secretary of Commerce for Import Administration, Alternate Chairman, Foreign-Trade Zones Board.

[FR Doc. 05-15367 Filed 8-2-05; 8:45 am]

BILLING CODE 3510-DS-P